DEPARTMENT OF COMMERCE

Foreign-Trade Zones Board

[Order No. 1274]

Termination of Foreign-Trade Subzone 9C; Honolulu, HI

Pursuant to the authority granted in the Foreign-Trade Zones Act of June 18, 1934, as amended (19 U.S.C. 81a-81u), and the Foreign-Trade Zone Board Regulations (15 CFR part 400,) the Foreign-Trade Zones Board has adopted the following order:

Whereas, on July 26, 1985, the Foreign-Trade Zones Board issued a grant of authority to the State of Hawaii Department of Business, Economic Development & Tourism (the State), authorizing the establishment of Foreign-Trade Subzone 9C at the Dole Packaged Foods Company plant in Honolulu, Hawaii (Board Order 308, 50 FR 31210, August 1, 1985);

Whereas, the State advised the Board on June 18, 2002 (FTZ Docket 5-2003), that zone procedures were no longer needed at the facility and requested voluntary termination of Subzone 9C;

Whereas, the request has been reviewed by the FTZ Staff and Customs officials and approval has been recommended;

Now, therefore, the Foreign-Trade Zones Board terminates the subzone status of Subzone 9C, effective this date.

Signed at Washington, DC, this 14th day of May, 2003.
Jeffrey A. May,
Acting Assistant Secretary of Commerce for Import Administration, Alternate Chairman, Foreign-Trade Zones Board.

[FR Doc. 03-12878 Filed 5-21-03; 8:45 am]

BILLING CODE 3510-DS-P